DEPARTMENT OF TRANSPORTATION

Federal Highway Administration

Environmental Impact Statement: Sullivan County, TN

AGENCY: Federal Highway Administration (FHWA), DOT.

ACTION: Notice of intent

SUMMARY: The FHWA is issuing this notice to advise the public that an environmental impact statement will be prepared for the proposed extension of SR-357 in Sullivan County, Tennessee.

FOR FURTHER INFORMATION CONTACT: Mr. Walter Boyd, P.E., Field Operations Team Leader, Federal Highway Administration, Tennessee Division, 640 Grassmere Park Road, Suite 112, Nashville, Tennessee 37211, Telephone: (615) 781-5774.

SUPPLEMENTARY INFORMATION: The FHWA, in cooperation with the Tennessee Department of Transportation, will prepare an environmental impact statement (EIS) on a proposal to provide an extension to SR-357 in Sullivan County, Tennessee. The proposed project would involve the extension of SR-357 from existing SR-357 west of the Tri-Cities Airport to the U.S. 11E/19W-U.S. 19E intersection near Bluff City, Tennessee.

The proposed project is considered necessary to provide for the existing and projected traffic demand on the surrounding transportation network. The proposed project is anticipated to provide a multi-lane facility with the number of lanes and access control to be determined depending on forecasted traffic volumes. The EIS will discuss environmental, social, and economic impacts associated with the development of the proposed action.

Letters describing the proposed action and soliciting comments will be sent to appropriate Federal, State, and local agencies, and to private organizations and citizens who have previously expressed or are known to have interest in this proposal. Public meetings will be held in the vicinity of the project throughout the development of the EIS. In addition, a public hearing will be held. Public notice will be given of the time and place of the meetings and hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: December 1, 2005.
Walter Boyd,
Field Operations Team Leader, Nashville, Tennessee.

FR Doc. 05-23703 Filed 12-6-05; 8:45 am]

BILLING CODE 4910-22-M